DEPARTMENT OF THE INTERIOR

Fish and Wildlife Service

Notice of Decision and Availability of Decision Documents on the Issuance of Permits for Incidental Take of Threatened and Endangered Species

AGENCY: Fish and Wildlife Service, Interior.

ACTION: Notice of decision.

SUMMARY: Between February 17, 2001, and November 14, 2001, Region 1 of the Fish and Wildlife Service (Service) approved seven Habitat Conservation Plans (Plans) and issued seven associated permits and transferred three permits for the incidental take of threatened and endangered species pursuant to section 10(a)(1)(B) of the Endangered Species Act of 1973, as amended (Act). The Service also issued two Safe Harbor Agreement permits pursuant to section 10(a)(1)(A) of the Act. Two applicants also withdrew their permit applications after their Plans had been noticed in the Federal Register for public comment. Copies of the permits and associated decision documents are available upon request. Charges for copying (10 cents per page), plus shipping and handling may apply.

ADDRESSES: If you would like copies of any of the above documents, please contact the Fish and Wildlife Reference Service, 5430 Grosvenor Lane, Suite 110, Bethesda, Maryland 20814; telephone (800) 582-3421.

FOR FURTHER INFORMATION CONTACT: Heather Hollis, Fish and Wildlife Biologist, Fish and Wildlife Service, Portland, Oregon; telephone (503) 231-6241.

SUPPLEMENTARY INFORMATION: Section 9 of the Act and Federal regulation prohibit the take of wildlife species listed as endangered or threatened, respectively. Under the Act, the term “take” means to harass, harm, pursue, hunt, shoot, wound, kill, trap, capture, or collect listed wildlife, or to attempt to engage in any such conduct. The Service may, under limited circumstances, issue permits to authorize take that is incidental to, and not the purpose of, carrying out an otherwise lawful activity. Regulations governing permits for threatened and endangered species are found in 50 CFR 17.32 and 17.22.

Between February 17, 2001, and November 14, 2001, Region 1 of the Service issued the following permits for incidental take of threatened and endangered species, pursuant to section 10(a)(1)(B) and section 10(a)(1)(A) of the Act. We issued each permit after making the following determinations: the application had been submitted in good faith; all permit issuance criteria were met, including the requirement that granting the permit will not jeopardize the continued existence of listed species; and the permit was consistent with the Act and applicable regulations, including a thorough review of the environmental effects of the action and alternatives pursuant to the National Environmental Policy Act of 1969.

Copies of these permits, their accompanying Plans, and associated documents are available upon request. Decision documents for each permit include Findings and Recommendations; a Biological Opinion; and either a Finding of No Significant Impact, a Record of Decision, or an Environmental Action Statement. Associated documents may also include an Implementing Agreement, Assumption Agreement, Environmental Assessment, or Environmental Impact Statement, as applicable.

Approved plan/permit | Permit No. | Issuance date
Habitat Conservation Plans:
John Lang Homes, Cantata—permit transfer | TE835424-0 | 03/22/01
San Joaquin Valley Multispecies | TE043280-0 | 05/31/01
Tacoma Water | TE044757-0 | 07/06/01
El Sobrante Landfill | TE040421-0 | 07/24/01
Reichel et al. Permit Transfers | TE046730-0 TE046731-0 | 08/10/01 08/10/01
Keig Wildcat Line | TE040317-0 | 09/12/01
Boise Cascade Low-effect | TE028219-0 | 09/13/01
Deer Canyon Park | TE035929-0 | 09/17/01
City of Highland Roadways Project | TE049462-0 | 10/29/01
Safe Harbor Agreements: |
Nene Reintroduction, Puu O Hoku Ranch | TE028990-0 | 08/22/01
Russell Pond, Oregon Chub | TE042953-0 | 09/24/01

In addition to issuing the above permits, the Service ceased processing two permit applications after the applicants withdrew their permit applications. Both International Paper and Crown Pacific withdrew their permit applications after both had developed draft HCPs that had been available for public review.

Dated: November 20, 2001.
Rowan Gould,
Deputy Regional Director, Fish and Wildlife Service, Region 1, Portland, Oregon.

[FR Doc. 01-31104 Filed 12-17-01; 8:45 am]

BILLING CODE 4310-55-P